DEPARTMENT OF TRANSPORTATION

Federal Aviation Administration

14 CFR Part 39

[Docket No. FAA-2013-0479; Directorate Identifier 2011-SW-070-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model AS332C, AS332L, AS332L1, AS332L2, and EC225LP helicopters. This proposed AD would require inspecting the intermediate gearbox (IGB) fairing for a crack and inspecting the IGB fairing gutter (gutter), if installed, for a crack, separation, or interference. This proposed AD is prompted by reports of cracks, separation of the IGB fairing from the gutter and attachment supports, and subsequent interference with the tail rotor (TR) inclined drive shaft. The proposed actions are intended to detect a crack and prevent separation of the IGB fairing, which could result in interference with the TR inclined drive shaft and subsequent loss of control of the helicopter.

DATES: We must receive comments on this proposed AD by August 5, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0189-E, dated September 29, 2011 (AD 2011-0189-E), to correct an unsafe condition for the Eurocopter Model AS332C, AS332C1, AS332L, AS332L1, AS332L2, and EC225LP helicopters with certain IGB fairings installed. EASA advises that cracks are being found on the IGB fairing and the gutters, which have caused some fairings to separate and interfere with the T/R inclined drive shaft. According to EASA, these cracks are occurring along the rivet line joining the IGB fairing to the gutter and also in the associated attachment points. Previous corrective actions mandated by EASA required repetitive inspections of the IGB fairings, reinforcement of the gutter riveting, and removal of the gutter. After receiving additional reports of cracks despite those actions, EASA issued AD 2011-0189-E to continue to require inspecting the IGB fairing gutter and also require inspecting the IGB fairing and attachment supports for cracks every 15 flight hours.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter has issued one emergency alert service bulletin (ASB) with three numbers, revision 4, dated September 27, 2011: ASB No. 53.01.47 for Model AS 332 series helicopters, ASB No. 53.00.48 for Model AS532 series helicopters, and ASB No. 53A001 for Model EC225 and EC725 helicopters. That ASB requires inspecting the IGB fairings and their attachment supports and replacing any cracked or damaged parts every 15 flight hours.

Proposed AD Requirements

This proposed AD would require:

• For helicopters with an IGB fairing, part number (P/N) 332A24-0303-0501 or 332A24-0303-0601 (with a gutter), installed, within 15 hours time-in-service (TIS) and thereafter at intervals not to exceed 15 hours TIS, inspecting the gutter, IGB fairing, and attachment supports for a crack, separation, or interference between the gutter and the T/R inclined drive shaft, hydraulic pipes, or flight controls.

• For helicopters with an IGB fairing, P/N 332A081391.00 or 332A081391.01 (without a gutter), installed, within 15 hours TIS and thereafter at intervals not to exceed 15 hours TIS, inspecting the IGB fairing and attachment supports for a crack.

• If during any inspection required by this proposed AD there is a crack, interference, or separation, replacing the cracked or damaged part with an airworthy part.

Costs of Compliance

We estimate that this proposed AD would affect 10 helicopters of U.S. Registry. We estimate that operators may incur the following costs in order to comply with this AD. Inspecting the IGB fairing and attachment supports would require about 0.5 work hours at an average labor rate of $85 per work hour, for a total cost per helicopter of $43 per inspection cycle. The total cost to the U.S. operator fleet would be $430 per inspection cycle. Replacing a cracked IGB fairing would require about 2 work hours at an average labor rate of $85 per work hour, and required parts would cost $1,905, for a total cost per helicopter of $2,075. Replacing a damaged T/R inclined drive shaft tube would require about 2 work hours, and required parts would cost $16,726, for a total cost per helicopter of $16,896. Replacing a damaged hydraulic pipe would require about 2 work hours and required parts would cost $1,202, for a total cost per helicopter of $1,372. Replacing a damaged flight control component would require about 2 work hours, and required parts would cost $440, for a total cost per helicopter of $610.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-0479; Directorate Identifier 2011-SW-070-AD.

(a) Applicability

This AD applies to Eurocopter France (Eurocopter) Model AS332C, AS332L, AS332L1, AS332L2, and EC225LP helicopters with an intermediate gearbox (IGB) fairing, part number (P/N) 332A24-0303-0501, P/N 332A24-0303-0601, P/N 332A081391.00, or P/N 332A081391.01 installed, certificated in any category.

(b) Unsafe Condition

This AD defines the unsafe condition as a crack in the IGB fairing, which could result in separation of the IGB fairing from its attachment supports, resulting in interference with the tail rotor (T/R) inclined driveshaft, failure of the T/R inclined driveshaft, and subsequent loss of control of the helicopter.

(c) Comments Due Date

We must receive comments by August 5, 2013.

(d) Compliance

You are responsible for performing each action required by this AD within the specified compliance time unless it has already been accomplished prior to that time.

(e) Required Actions

Within 15 hours time-in-service (TIS), and thereafter at intervals not to exceed 15 hours TIS:

(1) For all helicopters, inspect the IGB fairing and both attachment supports for a crack. If there is a crack, replace the cracked part with an airworthy part.

(2) For helicopters with an IGB fairing, part number (P/N) 332A24-0303-0501 or P/N 332A24-0303-0601, installed, inspect the IGB fairing gutter (gutter) for a crack. If there is a crack, replace the gutter with an airworthy gutter, and inspect the IGB fairing for separation, or interference between the gutter and the tail rotor (T/R) inclined drive shaft, hydraulic pipes, or flight controls.

(i) If there is interference between the gutter and the T/R inclined drive shaft tube, replace the T/R inclined drive shaft tube and the IGB fairing/gutter assembly with an airworthy T/R inclined drive shaft tube and IGB fairing/gutter assembly.

(ii) If there is interference between the gutter and the hydraulic pipes, replace the IGB fairing/gutter assembly with an airworthy IGB fairing/gutter assembly. Inspect the hydraulic pipes for a dent, score, distortion, or chafing. If there is a dent, score, distortion, or chafing, replace the affected hydraulic pipe with an airworthy hydraulic pipe.

(iii) If there is interference between the gutter and the flight controls, replace the IGB fairing/gutter assembly with an airworthy IGB fairing/gutter assembly. Inspect the cables on the left hand side of the pylon, the quadrant on which the cables are coiled, the flight control lever, the rod, and the T/R servo-control operating mechanism for friction, chafing, broken strands, buckling, distortion, or scoring. If there is any friction, chafing, broken strands, buckling, distortion, or scoring, replace the affected flight control component with an airworthy flight control component.

(iv) If there is any separation of the gutter, replace the IBG fairing/gutter assembly with an airworthy fairing/gutter assembly.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Eurocopter Emergency Alert Service Bulletin (EASB) No. 53.01.47 for Model AS 332 helicopters, EASB No. 53.00.48 for Model AS532 helicopters, and EASB No. 53A001 for Model EC225 and EC725 helicopters, all revision 4, dated September 27, 2011, which are not incorporated by reference, contain additional information about the subject of this AD. For service information identified in this AD, contact American Eurocopter Corporation, 2701 N. Forum Drive, Grand Prairie, TX 75052; telephone (972) 641-0000 or (800) 232-0323; fax (972) 641-3775; or at http://www.eurocopter.com/techpub. You may review a copy of the service information at the FAA, Office of the Regional Counsel, Southwest Region, 2601 Meacham Blvd., Room 663, Fort Worth, Texas 76137.

(2) The subject of this AD is addressed in European Aviation Safety Agency Emergency AD No. 2011-0189-E, dated September 29, 2011.

(h) Subject

Joint Aircraft Service Component (JASC) Code: 5350: Aerodynamic Fairings.

Issued in Fort Worth, Texas, on May 28, 2013.
Kim Smith,
Directorate Manager, Rotorcraft Directorate, Aircraft Certification Service.

[FR Doc. 2013-13297 Filed 6-4-13; 8:45 am]

BILLING CODE 4910-13-P